NUCLEAR REGULATORY COMMISSION

Staff Meetings Open to the Public: Final Policy Statement

AGENCY: Nuclear Regulatory Commission.

ACTION: Final Policy Statement.

SUMMARY: The Nuclear Regulatory Commission is finalizing revisions to its “Policy Statement on Staff Meetings Open to the Public,” to state that public notice of meetings will be provided primarily through the NRC Web site at http://www.nrc.gov. NRC will also discontinue announcing public meetings, changes, and cancellations through its public meeting notice system electronic bulletin board, and telephone recording, and through the Weekly Compilation of Press Releases and posting in the NRC's Public Document Room.

EFFECTIVE DATE: September 20, 2000.

FOR FURTHER INFORMATION CONTACT: Rosetta O. Virgilio, Office of the Executive Director for Operations, U.S. Nuclear Regulatory Commission, Washington, DC 20555-0001, Telephone: 301-415-2307; email:rov@nrc.gov

ADDITIONAL INFORMATION: The NRC solicited public comment on the proposed revisions to the Policy Statement in the January 25, 2000 Federal Register (65 FR 3982). All four comment letters received supported the revisions; three of the four recommended improvements to the NRC Web site for noticing public meetings. The NRC's Office of the Chief Information Officer is planning to develop a Web-based public meeting system to replace the existing system used to schedule and track meeting notices and cancellations. The proposed new system will allow the staff to implement all of the commenters suggestions. Copies of the comment letters can be viewed at the NRC Public Document Room located at 2120 L Street, NW. (Lower Level), Washington, DC.

The text of the revised Policy Statement follows in its entirety. The final Policy Statement contains a revised Section D, identifying the NRC Web site as the primary mechanism for announcing staff meetings open to the public. The electronic bulletin board and automated telephone recording will be eliminated. Members of the public who do not have access to the Internet can contact the NRC's Public Document Room staff at 800-397-4209 for information on scheduled meetings. Other changes to Section D of the Policy Statement make it consistent with current NRC staff guidance and procedures, as discussed in the proposed Policy Statement notice. These changes include: revising the statement that a meeting notice should be provided to the Meeting Announcement Coordinator at least 10 days before a meeting to state that meeting notices will be provided to the public as soon as meeting arrangements have been made, generally no fewer than 10 calendar days before the meeting; and eliminating the current 60 day limit on the announced schedule of future meetings.

IV. Commission Policy Statement on Staff Meetings Open to the Public

A. Purpose

This statement presents the policy that the Nuclear Regulatory Commission (NRC) staff will follow in opening meetings between the NRC staff and one or more outside persons to public observation. The policy continues NRC's longstanding practice of providing the public with the fullest information practicable on its activities and of conducting business in an open manner, while balancing the need for the NRC staff to exercise its regulatory and safety responsibilities without undue administrative burden. This policy also announces central agency services available to the public for obtaining schedules for the staff meetings that are open to public attendance. Implementing guidance will be issued to the NRC staff as a management directive. This meeting policy is a matter of NRC discretion and may be departed from as NRC convenience and necessity may dictate.

B. Definition

A public meeting is a planned, formal encounter open to public observation between one or more NRC staff members and one or more outside persons physically present at a single meeting site, with the expressed intent of discussing substantive issues that are directly associated with the NRC's regulatory and safety responsibilities. An outside person is any individual who is not:

a. An NRC employee;

b. Under contract to the NRC;

c. Acting in an official capacity as a consultant to the NRC;

d. Acting in an official capacity as a representative of an agency of the executive, legislative, or judicial branch of the U.S. Government (except when the agency is subject to NRC regulatory oversight);

e. Acting in an official capacity as a representative of a foreign government;

f. Acting in an official capacity as a representative of a State or local government (except when specific NRC licensing or regulatory matters are discussed).

C. Applicability and Exemptions

1. This policy applies solely to NRC staff-sponsored and conducted meetings and not to meetings conducted by outside entities that NRC staff members might attend and participate in. It does not apply to the Commission or offices that report directly to the Commission. Similarly, it does not apply to meetings between the NRC staff and representatives of State governments, including Agreement State representatives, relating to NRC Agreement State activities or to State regulatory actions or to other matters of general interest to the State or to the Commission, that is, matters other than specific NRC licensing or regulatory actions involving specific licensees. Also, the policy is not intended to apply to or supersede any existing law, rule or regulation that addresses public attendance at a specific type of meeting. For example, 10 CFR Part 7 specifically addresses public attendance at advisory committee meetings; and 10 CFR Part 9, Subpart C, addresses public attendance at Commission meetings. The policy also does not negate existing Memoranda of Understanding, procedural agreements, or other formal agreements or requirements regarding the accessibility of the public to observe or participate in meetings between NRC and its licensees or any other entities. In addition, the policy does not apply to meetings involving enforcement matters under 10 CFR Part 2, Appendix C nor to settlement conferences.

2. In general, meetings between the NRC staff and outside persons will be classified as public meetings unless the NRC staff determines that the subject matter to be discussed—

a. Is specifically authorized by an Executive Order to be kept secret in the interests of national defense or foreign policy (classified information) or specifically exempted from public disclosure by statute;

b. Contains trade secrets and commercial or financial information (proprietary information);

c. Contains safeguards information;

d. Is of a personal nature where such disclosure would constitute a clearly unwarranted invasion of personal privacy;

e. Is related to a planned, ongoing, or completed investigation and/or contains information compiled for law enforcement purposes;

f. Could result in the inappropriate disclosure and dissemination of preliminary, unverified information;

g. Is a general information exchange having no direct, substantive connection to a specific NRC regulatory decision or action;

h. Indicates that the administrative burden associated with public attendance at the meeting could result in interfering with the NRC staff's execution of its safety and regulatory responsibilities, such as when the meeting is an integral part of the execution of the NRC inspection program.

It is important to note that whether or not a meeting should be open for public attendance is dependent primarily on the subject matter to be discussed, not who outside nor who within the NRC staff is participating (e.g., staff level versus senior management).

Also note that meetings between staff and licensees or trade groups to discuss technical issues or licensee performance would normally be open because they may lead to a specific regulatory decision or action. However, should a meeting involving a general information exchange be closed and should discussions during such a meeting approach issues that might lead to a specific regulatory decision or action, the NRC staff may advise the meeting attendees that such matters cannot be discussed in a closed meeting and propose discussing the issues in a future open meeting.

D. Notice to the Public

1. Meeting announcement information is to be provided to the public as soon as the staff is certain that a meeting will be held and firm date, time, and facility arrangements have been made, but generally no fewer than 10 calendar days before the meeting. Where a meeting must be scheduled but cannot be announced 10 calendar days in advance, the staff will provide as much advance notice as possible. Public notice of meetings will be made via the Internet from the NRC Web site at http://www.nrc.gov. Meeting changes or cancellations will also be announced promptly on the NRC Web site. Meeting notices, changes to meetings, and cancellations will be updated each working day, if required, on the NRC Web site. Members of the public who cannot access the NRC Web site can contact the NRC Public Document Room staff via a toll free number for information on scheduled NRC meetings.

2. Meeting announcements will include the date, time, and location of the meeting, as well as its purpose, the NRC office(s) and outside participant(s) in attendance, and the name and telephone number of the NRC contact for the meeting.

Dated at Rockville, Maryland, this 14th day of September, 2000.
For the Nuclear Regulatory Commission.
Annette Vietti-Cook,
Secretary to the Commission.

[FR Doc. 00-24161 Filed 9-19-00; 8:45 am]

BILLING CODE 7590-01-P